DEPARTMENT OF THE INTERIOR

Fish and Wildlife Service

[FWS-HQ-IA-2013-N140; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before July 29, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Morani River Ranch, Uvalde, TX; PRT-49112A

The applicant requests amendment of their permit authorizing interstate and foreign commerce, export, and cull of excess from the captive herd maintained at their facility, to include barasingha (Rucervus duvaucelii), for the purpose of enhancement of the survival of the species. This notification covers activities to be conducted by the applicant over a 5-year period.

Applicant: Sandy Blauvelt, Mansfield, TX; PRT-08619B

The applicant requests a captive-bred wildlife registration under 50 CFR 17.21(g) for radiated tortoise (Astrochelys radiata) to enhance the species' propagation or survival. This notification covers activities to be conducted by the applicant over a 5-year period.

Applicant: Greater Baton Rouge Zoo, Baker, LA; PRT-692868

The applicant requests renewal of their captive-bred wildlife registration under 50 CFR 17.21(g) for the following families and species, to enhance their propagation or survival. This notification covers activities to be conducted by the applicant over a 5-year period.

Families

Bovidae

Cebidae

Cercopithecidae

Equidae

Felidae (does not include jaguar, margay, or ocelot)

Hylobatidae

Lemuridae

Rhinocerotidae

Tapiridae

Species

Maned wolf (Chrysocyon brachyurus)

Asian elephant (Elephas maximus)

Applicant: Zoo Atlanta, Atlanta, GA: PRT-740398

The applicant requests renewal of their captive-bred wildlife registration under 50 CFR 17.21(g) for the following families, to enhance their propagation or survival. This notification covers activities to be conducted by the applicant over a 5-year period.

Families

Bovidae

Cebidae

Cercopithecidae

Equidae

Felidae (does not include jaguar, margay or ocelot)

Hominidae

Rhinocerotidae

Alligatoridae

Boidae (does not include Mona boa or Puerto Rico boa)

Crocodylidae (does not include American crocodile)

Iguanidae

Varanidae

Cryptobranchidae

Testudinidae

Pelomedusidae

Emydidae

Applicant: Nick Sculac, Calhan, CO; PRT-05161B

The applicant requests a captive-bred wildlife registration under 50 CFR 17.21(g) for the family Lemuridae and the species tiger (Panthera tigris), leopard (Panthera pardus), snow leopard (Uncia uncia), clouded leopard (Neofelis nebulosa), brown hyena (Parahyaena brunnea), and cheetah (Acinonyx jubatus), to enhance the species' propagation or survival. This notification covers activities to be conducted by the applicant over a 5-year period.

Applicant: Wild Wonders Zoofari, Bonsall, CA; PRT-88777A

The applicant requests amendment of their permit to import one captive-bred male cheetah (Acinonyx jubatus) from the Hoedspruit Endangered Species Center instead of the De Wildt Cheetah Breeding Center, South Africa, for the purpose of enhancement of the survival of the species.

Applicant: Memphis Zoo, Memphis, TN; PRT-052166

The applicant requests renewal of their permit for scientific research with two giant pandas (Ailuropoda melanoleuca) currently held under loan agreement with the Government of China and under the provisions of the USFWS Panda Policy. The proposed research will cover all aspects of behavior, reproductive physiology, genetics, nutrition, and animal health, and is a continuation of activities currently in progress. This notification covers activities to be conducted by the applicant over a 5-year period.

Applicant: John Messmer, Shallotte, NC; PRT-08522B

The applicant requests a captive-bred wildlife registration under 50 CFR 17.21(g) for the golden parakeet (Guarouba guarouba), Cuban parrot (Amazona leucocephala), and Vinaceous parrot (Amazona vinacea), to enhance the species' propagation or survival. This notification covers activities to be conducted by the applicant over a 5-year period.

Applicant: Dickerson Park Zoo, Springfield, MO; PRT-693363

The applicant requests renewal of their captive-bred wildlife registration under 50 CFR 17.21(g) for the following families and species, to enhance their propagation or survival. This notification covers activities to be conducted by the applicant over a 5-year period.

Families

Bovidae

Cebidae

Canidae

Felidae (does not include jaguar, margay, or ocelot)

Hylobatidae

Lemuridae

Species

Asian elephant (Elephas maximus)

Applicant: Metro Richmond Zoo, Moseley, VA; PRT-806176

The applicant requests renewal of their captive-bred wildlife registration under 50 CFR 17.21(g) for the following families and species, to enhance their propagation or survival. This notification covers activities to be conducted by the applicant over a 5-year period.

Families

Hylobatidae

Lemuridae

Rhinocerotidae

Tapiridae

Species

Orangutan (Pongo pygmaeus)

Cheetah (Acinonyx jubatus)

Slender-horned gazelle (Gazella leptoceros)

Bengal tiger (Panthera tigris tigris)

Diana monkey (Cercopithecus diana)

Jackass penguin (Spheniscus demersus)

Applicant: Smithsonian National Zoological Park, Washington, DC; PRT-668353

The applicant requests renewal of their captive-bred wildlife registration under 50 CFR 17.21(g) for the following families, genera and species, to enhance their propagation or survival. This notification covers activities to be conducted by the applicant over a 5-year period.

Families

Bovidae

Canidae

Cebidae

Cercopithecidae

Cervidae

Equidae

Felidae (does not include jaguar, margay, or ocelot)

Hominidae

Hylobatidae

Indriidae

Lemuridae

Lorisidae

Macropodidae

Mustelidae

Rhinocerotidae

Suidae

Tapiridae

Tarsiidae

Ursidae

Viverridae

Accipitridae

Anatidae

Ardeidae

Columbidae

Cotingidae

Cracidae

Falconidae

Gruidae

Muscicapidae

Psittacidae (does not include thick-billed parrot)

Rallidae

Rheidae

Spheniscidae

Strigidae

Sturnidae (does not include Aplonis pelzelni)

Threskiornithidae

Bufonidae

Cryptobranchidae

Alligatoridae

Boidae (does not include Mona boa or Puerto Rico boa)

Crocodylidae (does not include the American crocodile)

Emydidae

Gekkonidae

Iguanidae

Pelomedusidae

Rhynchocephalidae

Testudinidae

Varanidae

Genera

Tragopan

Species

Asian elephant (Elephas maximus)

Applicant: Ross Popenoe, Redmond, WA; PRT-816505

The applicant requests renewal of their captive-bred wildlife registration under 50 CFR 17.21(g) for the Galapagos tortoise (Chelonoidis nigra) and radiated tortoise (Astrochelys radiata) to enhance their propagation or survival. This notification covers activities to be conducted by the applicant over a 5-year period.

Applicant: Nashville Zoo, Nashville, TN; PRT-839465

The applicant requests renewal of their captive-bred wildlife registration under 50 CFR 17.21(g) for the following families and species, to enhance their propagation or survival. This notification covers activities to be conducted by the applicant over a 5-year period.

Families

Bovidae

Cebidae

Canidae

Cercopithecidae

Equidae

Felidae

Hylobatidae

Lemuridae

Macropodidae

Rhinocerotidae

Tapiridae

Cracidae

Gruidae

Psittacidae

Testudinidae

Species

Babirusa (Babyrousa babyrussa)

Rodrigues fruit bat (Pteropus rodricensis)

Lesser rhea (Rhea pennata)

Indian (Bengal) monitor (Varanus bengalensis)

Aruba island rattlesnake (Crotalus unicolor)

Applicant: Gibbon Conservation Center, Santa Clarita, CA; PRT-757434

The applicant requests renewal of their captive-bred wildlife registration under 50 CFR 17.21(g) for the family Hylobatidae, to enhance their propagation or survival. This notification covers activities to be conducted by the applicant over a 5-year period.

Applicant: Joel Owens, Rosenberg, TX; PRT-7778B

The applicant requests a captive-bred wildlife registration under 50 CFR 17.21(g) for the barasingha (Rucervus duvaucelii) and scimitar-horned oryx (Oryx dammah) to enhance the species' propagation or survival. This notification covers activities to be conducted by the applicant over a 5-year period.

Applicant: Kenneth Siffert, West Islip, NY; PRT-09121B

The applicant requests a captive-bred wildlife registration under 50 CFR 17.21(g) for the radiated tortoise (Astrochelys radiata) to enhance the species' propagation or survival. This notification covers activities to be conducted by the applicant over a 5-year period.

Multiple Applicants

The following applicants each request a permit to import the sport-hunted trophy of one male bontebok (Damaliscus pygargus pygargus) culled from a captive herd in the Republic of South Africa, for the purpose of enhancement of the survival of the species.

Applicant: Brandon Turner, Mobile, AL; PRT-98930A

Applicant: Robert Solimena, Sacramento, CA; PRT-09087B

Applicant: Dennis Schemmel, Grimes, IA; PRT-09171B

Brenda Tapia,
Program Analyst/Data Administrator, Branch of Permits, Division of Management Authority.

[FR Doc. 2013-15428 Filed 6-26-13; 8:45 am]

BILLING CODE 4310-55-P